DEPARTMENT OF TRANSPORTATION

Federal Aviation Administration

RTCA, Inc.; Government/Industry Free Flight Steering Committee, Revised Agenda

The December 13 RTCA Free Flight Steering Committee meeting announced in the Federal Register, 65 FR 70869 (Tuesday, November 28, 2000), has been revised.

The revised agenda reads as follows: The agenda will include: (1) Welcome and Opening Remarks; (2) Review Summary of the Previous Meeting; (3) Report from FAA: (a) Free Flight Phase 1 Operational Assessment Update; (b) End-to-End Checklist for Safe Flight 21 Applications; (c) FAA Primary En Route Radar Restructuring Program; (4) Report and Recommendations from the Free Flight Select Committee: (d) National Airspace System Concept of Operations; (e) Addendum 4: Free Flight Phase 2; (5) CNS/ATM Focus Team Data Link Report; (6) National Airspace System Operational Evolution Plan; (7) Other Business; (8) Date and Location of Next Meeting; (9) Closing Remarks.

Persons wishing to present statements or obtain information should contact the RTCA, Inc., at (202) 833-9339 (phone), (202) 833-9434 (facsimile).

Issued in Washington, DC on November 30, 2000.
Janice L. Peters,
Designated Official.

[FR Doc. 00-31092 Filed 12-5-00; 8:45 am]

BILLING CODE 4910-13-M